DEPARTMENT OF DEFENSE

Department of the Army

Preparation of an Environmental Impact Statement (EIS) for Stationing and Training of Increased Aviation Assets Within U.S. Army Alaska (USARAK)

AGENCY: Department of the Army, DoD.

ACTION: Notice of Intent.

SUMMARY: The Army intends to prepare an EIS to assess the potential environmental impacts associated with the stationing and training of increased numbers and types of aviation assets within Alaska. The proposed increase and reorganization will allow the Army to transition to a force that is capable of providing a broad range of integrated aviation training experience to the forces of USARAK and more aviation capabilities when the unit deploys to support operational missions abroad. Existing aviation units would potentially be reorganized and stationed at Fort Wainwright, Fort Richardson or other military installations to support the training of aviation assets on U.S. Army training lands in Alaska. The reorganized unit would be capable of providing first line air transport, air reconnaissance, and close air support. The new aviation unit would be built around the existing USARAK aviation fleet of 30 medium and heavy lift transport helicopters, and USARAK's 640 aviation personnel. To this the Army proposes to add helicopters capable of providing medical evacuation, air reconnaissance, close air support, and aviation attack capabilities. The proposed aviation unit, an Aviation Task Force or Combat Aviation Brigade (CAB), would potentially consist of up to 62 medium and heavy lift helicopters, 30 combat scout helicopter, 24 attack helicopters, and between 1,200 to 2,850 personnel. This proposed stationing and training of increased aviation assets involves construction of new facilities, execution of day-to-day support operations, and routine joint military training at nearby training lands and ranges. The action may have significant environmental impacts resulting from training and construction required as part of the proposed reorganization. Significant impacts resulting from this action may include impacts to air space, noise, and cultural resources. The EIS will analyze the impacts of the proposed action and a full range of reasonable alternatives upon Alaska's natural and man-made environments.

DATES: Written comments identifying potential impacts to be analyzed in the EIS must be received not later than May 4, 2007.

ADDRESSES: Written comments should be forwarded to Ms. Carrie McEnteer, Directorate of Public Works, Attention: IMPA-FWA-PWE (C. McEnteer), 1060 Gaffney Road #4500, Fort Wainwright, AK 99703-4500; fax: (907) 353-9867; e-mail: carrie.mcenteer@us.army.mil.

FOR FURTHER INFORMATION CONTACT: Mr. Robert Hall, Public Affairs Office, 724 Postal Service Loop Road, # 6000, Bldg. 600, Room B349, Fort Richardson, AK 99505-6000; telephone: (907) 384-2546, e-mail: robert.hall33@us.army.mil, or at Fort Wainwright, AK; telephone: (907) 353-6701.

SUPPLEMENTARY INFORMATION: To better support current and future national defense requirements, USARAK has restructured its two major military combat component units into modular force structures. These two components, the Stryker Brigade Combat Team (BCT) and Airborne BCT, have been reorganized to fit the Army's Modularity model as directed by the Army Campaign Plan. The new force structure offers a more flexible, sustainable, and rapidly deployable force, better to meet current and future defense requirements. The goal is for each BCT to be able to operate either independently or to integrate readily into a larger mission-tailored force capable of accomplishing a designated mission.

An essential element of USARAK combat capabilities is the development of modern war-fighting skills. Chief among these skills is the ability to integrate USARAK efforts with the vital support offered by modern Army aviation assets. These skills can only be mastered through frequent training with an aviation unit that is equipped with the full spectrum of aviation assets that are typically deployed to support a BCT during wartime. Such avaition units would provide infantry and light armored combat units first line air transport, air reconnaissance, and close air support.

While USARAK has historically supported unit training activities within Alaska with rotary-winged aircraft (helicopters), the types and numbers of current assets are not sufficient to provide the full range of integrated tactical training required by the modern BCT. To resolve this shortcoming, USARAK is proposing to reorganize its existing aviation assets (approximately 640 personnel and 30 medium and heavy lift helicopters) to become a front line aviaiton unit with an increased capacity that could range in size from an Aviation Task Force (approximately 1,200 personnel, 40-50 medium and heavy lift helicopters, and 30 combat scout helicopters) to a CAB (approximately 2,850 personnel, 60 medium and heavy lift helicopters, 30 combat scout helicopters, and 24 attack aviaiton helicopters). The new aviation unit would provide key aviation assets for operational deployment abroad, and would serve to enhance the training capability of USARAK's two BCTs by providing a local opportunity to conduct integrated training with multiple types of Army aviation assets.

In addition to consideration of a No Action Alternative (use of existing aviation assets and infrastructure to support USARAK BCT training with no increase to current integrated land-air training capability), three additional alternatives are proposed as possible scenarios for the reorganization of existing USARAK aviation assets. The alternatives vary by aviation unit size, aviation asset composition, and amount of facility construction. Alternatives include: (1) Expansion of Existing Aviation Units into an Aviation Task Force with Full Construction and Increased Training—convert existing USARAK aviation assets into an Aviation Task Force (approximately 1,200 personnel, station additional helicopters, build sufficient new infrastructure to support indoor storage of 100% of the Aviation Task Force's aviation inventory and conduct increased aviation training on existing Alaska military ranges; (2) Expansion of Existing Aviation Assets into a CAB with Partial Construction and Increased Training—convert existing USARAK aviation assets into a CAB, station additional helicopters, build sufficient new infrastructure to support indoor storage of 20% of the CABs aviation inventory and conduct increased aviation training on existing Alaska military ranges; and (3) Expansion of Existing Aviation Assets into a CAB with Full Construction and Increased Training—convert existing USARAK aviation assets into a CAB, station additional helicopters, build sufficient new infrastructure to support indoor storage of 100% of the CABs aviation inventory and conduct increased aviation training on existing Alaska military ranges. Additional potential alternative sites within Alaska will be evaluated based upon the purpose and need and criteria associated with the proposed action.

Scoping and Public Comment: Tribes, Federal, state, and local agencies and the public are invited to participate in the scoping process for the preparation of this EIS. Scoping meetings will be held in Fairbanks, Anchorage, and Delta Junction, Alaska. The scoping process will help identify possible alternatives, potential environmental impacts, and key issues of concern to be analyzed in the EIS. Notification of the times and locations for the scoping meetings will be published in local newspapers.

Dated: March 26, 2007.
Addison D. Davis, IV,
Deputy Assistant Secretary of the Army (Environment, Safety, and Occupational Health).

[FR Doc. 07-1638 Filed 4-3-07; 8:45 am]

BILLING CODE 3710-08-M